EXPORT-IMPORT BANK

[Public Notice 55]

Agency Information Collection Activities: Proposes Collection; Comment Request

AGENCY: Export-Import Bank of the United States.

ACTION: Notice and request for comments.

SUMMARY: The Export-Import Bank, as part of its continuing effort to reduce paperwork and respondent burden, invites the general public and other Federal agencies to comment on the proposed information collection, as required by the Paperwork Reduction Act of 1995.

DATES: Written comments should be received on or before September 15, 2003 to be assured of consideration.

ADDRESSES: Direct requests for additional information to Angela Beckham, Export-Import Bank of the U.S., 811 Vermont Avenue, NW., Washington, DC 20571, (202) 565-3418. Direct comments to David Rostker, Office of Management and Budget, Office of Information And Regulatory Affairs, NEOB Room 10202, Washington, DC 20503.

SUPPLEMENTARY INFORMATION: Titles and Form Numbers: Application for Medium-Term Insurance or Guarantee EIB Form 03-02.

OMB Number: New.

Type of Review: New collection.

Need and Use: The information requested enables the applicant to provide Ex-Im Bank with the information necessary to obtain legislatively required assurance of repayment and fulfills other statutory requirements. The form encompasses medium-term financial guarantees and insurance polices.

Affected Public: It affects all entities involved in the export of U.S. goods and services, including exporters, banks, insurance brokers and non-profit or state and local governments acting as facilitators.

Estimated Annual Respondents: 700.

Estimated Time Per Respondent: 1 hour.

Estimated Annual Burden: 700.

Frequency of Reporting or Use: Applications submitted one time.

Dated: July 10, 2003.
Solomon Bush,
Agency Clearance Officer.

BILLING CODE 6690-01-M

[FR Doc. 03-17935 Filed 7-15-03; 8:45 am]

BILLING CODE 6690-01-C